NATIONAL AERONAUTICS AND SPACE ADMINISTRATION

[Notice: 03-123]

Notice of Information Collection

AGENCY: National Aeronautics and Space Administration (NASA).

ACTION: Notice of information collection.

SUMMARY: The National Aeronautics and Space Administration, as part of its continuing effort to reduce paperwork and respondent burden, invites the general public and other Federal agencies to take this opportunity to comment on proposed and/or continuing information collections, as required by the Paperwork Reduction Act of 1995 (Pub. L. 104-13, 44 U.S.C. 3506(c)(2)(A)).

DATES: All comments should be submitted on or before December 1, 2003.

ADDRESSES: All comments should be addressed to Ms. Celeste Dalton, Code HK, National Aeronautics and Space Administration, Washington, DC 20546-0001.

FOR FURTHER INFORMATION CONTACT: Ms. Nancy Kaplan, NASA Reports Officer, (202) 358-1372.

Title: Financial Monitoring and Control—Grants and Cooperative Agreements.

OMB Number: 2700-0049.

Type of Review: Extension of a currently approved collection.

Need and Uses: The information collected is required to ensure the proper accounting of Federal funds provided under grants and cooperative agreements with institutions of higher education and other non-profit organizations.

Affected Public: Not-for-profit institutions.

Number of Respondents: 1,172.

Responses Per Respondent: varies.

Annual Responses: 47,710.

Hours Per Request: varies.

Annual Burden Hours: 291,326.

Frequency of Report: As needed.

Patricia L. Dunnington,
Chief Information Officer, Office of the Administrator.

[FR Doc. 03-24790 Filed 9-29-03; 8:45 am]

BILLING CODE 7510-01-P